DEPARTMENT OF HOUSING AND URBAN DEVELOPMENT

[Docket No. FR-4861-N-03]

Notice of Funding Availability (NOFA) for Revitalization of Severely Distressed Public Housing; Availability of Additional Fiscal Year (FY) 2003 Funds for HOPE VI Demolition Grants and Reopening of NOFA Application Due Date

AGENCY: Office of Public and Indian Housing, HUD.

ACTION: Notice of additional FY2003 funding availability for HOPE VI Demolition Grants and Reopening of Application Due Date.

SUMMARY: On October 21, 2003, HUD published a notice of funding availability (NOFA) announcing the availability of approximately $40 million in FY2003 funds for the HOPE VI Demolition Program. This notice announces the availability of approximately an additional $20 million in FY2003 funds for HOPE VI Demolition grants, and reopens the due date for submission of Demolition Grant applications under the NOFA. HUD will award the additional FY2003 funds in accordance with the application submission and selection requirements contained in the October 21, 2003, NOFA, as corrected by the technical correction published on December 9, 2003.

DATES: Demolition grants applications will be accepted until September 17, 2004. An applicant that submitted an application for HOPE VI Demolition grant funding by the original February 18, 2004, applicant deadline, but that was not selected for a grant award because the applicant had not yet received demolition approval by the application deadline is not required to submit a new application. The applicant need only submit evidence that the application's targeted units have been approved by HUD for demolition.

ADDRESSES: Original signed applications must be sent to Mr. Milan Ozdinec, Deputy Assistant Secretary for Public Housing Investments, Room 4130, Department of Housing and Urban Development, 451 Seventh Street, SW., Washington, DC 20410-5000. Applicants are directed to section III(C) of the October 21, 2003, NOFA for additional requirements regarding the delivery of applications.

FOR FURTHER INFORMATION CONTACT: Caroline Clayton, Urban Revitalization Division, Office of Public and Indian Housing, Room 4130, Department of Housing and Urban Development, 451 Seventh Street, SW., Washington, DC 20410-5000; telephone (202) 401-8812 (this is not a toll-free number). Individuals with speech or hearing impairments may access this telephone number through TTY by calling the toll-free Federal Information Relay Service at (800) 877-8339.

SUPPLEMENTARY INFORMATION:

I. Background

On October 21, 2003 (68 FR 60178), HUD published a NOFA announcing the availability of $574 in FY2003 funds for the HOPE VI Program. Of this amount, approximately $447.8 million was made available for the HOPE VI Revitalization Program and $40 million for the HOPE VI Demolition Program. The remaining funds were made available for other purposes including Neighborhood Networks, technical assistance and Housing Choice Voucher Assistance.

Two technical corrections were subsequently published for the October 21, 2003, NOFA. The first was published on October 24, 2003 (68 FR 61044), and corrected two typographical errors contained in the NOFA concerning application due dates. The second technical correction, which was published on December 9, 2003 (68 FR 68644), notified applicants of the government-wide requirement that all applicants for Federal grants and cooperative agreements must provide a Dun and Bradstreet Data Universal Numbering System (DUNS) number with their applications, and also made several other corrections to the NOFA.

II. This Notice

This notice announces the availability of approximately an additional $20 million in FY2003 funds for HOPE VI Demolition Grants, and reopens the due date for a period of 30 days for submission of Demolition Grant applications under the October 21, 2003, NOFA. HUD will award the additional FY2003 funds in accordance with the application and submission requirements contained in the October 21, 2003, NOFA, as corrected by the December 9, 2003, technical correction. Applicants must refer to the October 21, 2003, NOFA and the December 9, 2003, technical correction for information regarding application submission procedures, application thresholds, application and grant limitations, the application selection process, post award requirements, and other requirements applicable to the HOPE VI Demolition Program.

A copy of the October 21, 2003, NOFA may be downloaded at: http://www.access.gpo.gov/su_docs/fedreg/a031021c.html.

A copy of the December 9, 2003, technical correction to the HOPE VI NOFA may be downloaded at: http://www.access.gpo.gov/su_docs/fedreg/a031209c.html.

An applicant that submitted an application for HOPE VI Demolition grants funding by the original February 18, 2004, deadline, but that was not selected for a grant award solely because the applicant had not received demolition approval by the application deadline is not required to submit a new application. The applicant need only submit evidence that the application's targeted units that have been approved by HUD for demolition. Such evidence must be submitted in accordance with the application submission requirements, and must be received by HUD by the application deadline date. All other applicants must submit a complete application, in accordance with the requirements described in the October 21, 2003, NOFA and the December 9, 2003, technical correction.

Dated: August 13, 2004.
Michael Liu,
Assistant Secretary for Public and Indian Housing.

[FR Doc. 04-18942 Filed 8-13-04; 2:21 pm]

BILLING CODE 4210-33-P